DEPARTMENT OF DEFENSE

[OMB Control Number 0704-0267]

Information Collection Requirement; Defense Federal Acquisition Regulation Supplement; Cost Accounting Standards

AGENCY: Department of Defense (DoD).

ACTION: Notice and request for comments regarding a proposed extension of an approved information collection requirement.

SUMMARY: In compliance with section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through March 31, 2001, under OMB Control Number 0704-0267. DoD proposes that OMB extend its approval for use through March 31, 2004.

DATES: DoD will consider all comments received by October 30, 2000.

ADDRESSES: Interested parties should submit written comments and recommendations on the proposed information collection to: Defense Acquisition Regulations Council, Attn: Ms. Sandra Haberlin, OUSD(AT&L)DP(DAR), IMD 3D139, 3062 Defense Pentagon, Washington, DC 20301-3062. Telefax (703) 602-0350.

E-mail comments submitted via the Internet should be addressed to: dfars@acq.osd.mil.

Please cite OMB Control Number 0704-0267 in all correspondence related to this issue. E-mail comments should cite OMB Control Number 0704-0267 in the subject line.

FOR FURTHER INFORMATION CONTACT: Ms. Sandra Haberlin, at (703) 602-0289. The information collection requirements addressed in this notice are available via the Internet at: http://www.acq.osd.mil/dp/dars/dfars.html. Paper copies are available from Ms. Sandra Haberlin, OUSD(AT&L)DP(DAR), IMD 3D139, 3062 Defense Pentagon, Washington, DC 20301-3062.

SUPPLEMENTARY INFORMATION: Title, Associated Form, and OMB Number: Defense Federal Acquisition Regulation Supplement (DFARS) Part 230, Cost Accounting Standards, and DD Form 1861; OMB Control Number 0704-0267.

Needs and Uses: Contracting officers use DD Form 1861, Contract Facilities Capital Cost of Money, in computing profit objectives for negotiated contracts. The form enables contracting officers to differentiate profit objectives for various types of contractor assets (land, buildings, equipment).

Affected Public: Businesses or other for-profit entities.

Annual Burden Hours: 445,400.

Number of Respondents: 38,456.

Responses Per Respondents: 1.16.

Annual Responses: 44,648.

Average Burden Per Response: 10 hours.

Frequency: On occasion.

Summary of Information Collection

This information collection includes requirements relating to DFARS Part 230, Cost Accounting Standards Administration. DFARS Subpart 230.70, Facilities Capital Employed for Facilities in Use, prescribes use of DD Form 1861 as a means of linking Form CASB-CMF and DD Form 1547, Record of Weighted Guidelines Application. The contracting officer uses DD Form 1861 to record and compute contract facilities capital cost of money and facilities capital employed, and carries the facilities capital employed amount to DD Form 1547 to develop a profit objective. Completion of DD Form 1861 requires contractor information not included on Form CASB-CMF, i.e., distribution percentages of land, buildings, and equipment for the business unit performing the contract. DFARS 230.7004-2 directs the contracting officer to choose the most practical method of obtaining this information, e.g., through the contract administration office or corporate administrative contracting officer, or through a solicitation provision.

Michele P. Peterson,
Executive Editor, Defense Acquisition Regulations Council.

[FR Doc. 00-22092 Filed 8-30-00; 8:45 am]

BILLING CODE 5000-04-M